NATIONAL AERONAUTICS AND SPACE ADMINISTRATION

[Notice (03-098)]

Revolutionize Aviation Subcommittee; Meeting

AGENCY: National Aeronautics and Space Administration (NASA).

ACTION: Notice of meeting.

SUMMARY: The National Aeronautics and Space Administration announces a forthcoming meeting of the Revolutionize Aviation Subcommittee (RAS).

DATES: Wednesday, September 17, 2003, 9 a.m. to 5 p.m.

ADDRESSES: Sheraton Pentagon South (Capital Ballroom), 4641 Kenmore Avenue, Alexandria, VA 22304, 703/751-4510.

FOR FURTHER INFORMATION CONTACT: Ms. Bernice Lynch, National Aeronautics and Space Administration, NASA Headquarters, Washington, DC 20546, 202/358-4594.

SUPPLEMENTARY INFORMATION: The meeting will be open to the public up to the seating capacity of the room. Agenda topics for the Joint Revolutionize Aviation Subcommittee (RAS) and Research, Engineering, and Development (RE&D) Advisory Committee meeting are as follows:

—National Plan

—SATS/Capstone 21

—Unmanned Aerial Vehicles in the National Airspace System

—Environmental R&D

—NASA/FAA Safety R&D Roadmaps

It is imperative that the meeting be held on the above date to accommodate the scheduling priorities of the key participants. Visitors will be requested to sign a visitors register.

June W. Edwards,
Advisory Committee Management Officer, National Aeronautics and Space Administration.

[FR Doc. 03-22335 Filed 8-29-03; 8:45 am]

BILLING CODE 7510-01-P